DEPARTMENT OF THE TREASURY

Submission for OMB Review; Comment Request

March 17, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 25, 2003 to be assured of consideration.

U.S. Customs Service (CUS)

OMB Number: 1515-0145.

Form Number: None.

Type of Review: Reinstatement.

Title: Cargo Container and Road Vehicle Certification for Transport Under Customs Seal.

Description: This information is used in a voluntary program to received internationally recognized Customs certification that intermodal containers/road vehicles meet construction requirements of international Customs convention.

Respondents: State, Local or Tribal Government, Individual or households, Business or other for-profit, Not-for-profit institutions.

Estimated Number of Respondents/Recordkeepers: 25.

Estimated Burden Hours Per Respondent /Respondent: 20 minutes.

Frequency of Response: On occasion.

Estimated Total Reporting/Recordkeeping Burden: 10,600 hours.

Clearance Officer: Tracey Denning, (202) 927-1429, U.S. Customs Service, Information Services Branch, Ronald Reagan Building, 1300 Pennsylvania Avenue, NW., Room 3.2.C, Washington, DC 20229.

OMB Reviewer: Joseph F. Lackey, Jr., (202) 395-7316, Office of Management and Budget, Room 10235, New Executive Office Building, Washington, DC 20503.

Lois K. Holland,
Treasury PRA, Clearance Officer.

[FR Doc. 03-7239 Filed 3-25-03; 8:45 am]

BILLING CODE 4820-02-P